DEPARTMENT OF ENERGY

Federal Energy Regulatory Commission

[Docket Nos. CP05-130-000, CP05-132-000, Corps Application # CENAB-OP-RMS200565510-4; Docket No. CP05-131-000]

U.S. Army Corps of Engineers, Baltimore District; Dominion Cove Point LNG, LP; Dominion Transmission, Inc.; Notice of Availability of the Final Environmental Impact Statement for the Cove Point Expansion Project

April 28, 2006.

The staff of the Federal Energy Regulatory Commission (FERC or Commission) in cooperation with the U.S. Army Corps of Engineers (Corps) and U.S. Coast Guard, (Coast Guard) has prepared a final Environmental Impact Statement (EIS) for a liquefied natural gas (LNG) import terminal expansion and natural gas pipeline facilities proposed by Dominion Cove Point LNG, L.P. and Dominion Transmission, Inc. (collectively referred to as Dominion) in the above-referenced dockets. The final EIS was prepared to satisfy the requirements of the National Environmental Policy Act (NEPA). The final EIS addresses federally listed species, cultural resources, and essential fish habitat issues. A draft General Conformity Determination was also prepared by the FERC to assess the potential air quality impacts associated with construction and operation of the proposed project and is included as Appendix H of the final EIS.

The FERC staff concludes that approval of the proposed project with appropriate mitigating measures, as recommended, would have limited adverse environmental impact.

The final EIS addresses the potential environmental effects of the construction and operation of the following LNG terminal and natural gas (steel) pipeline facilities:

• Two new 160,000 cubic meter single containment LNG storage tanks;

• Additional vaporization capacity consisting of shell and tube vaporizers and associated equipment;

• Additional power generation equipment consisting of two 21.7 megawatt gas turbine generators and three emergency generators;

• Infrastructure associated with the LNG terminal expansion including roads and storage and work areas at the existing site;

• About 47.8 miles of 36-inch-diameter, loop pipeline in Calvert, Prince Georges, and Charles County, Maryland (TL-532 Pipeline);

• Ancillary areas for pipeline construction, including access roads, staging areas, and work spaces;

• About 81 miles of 24-inch-diameter pipeline lateral in Juniata, Mifflin, Huntingdon, Centre, and Clinton Counties, Pennsylvania (PL-1 EXT2 Pipeline);

• Two new compressor stations in Juniata County (Perulack Station) and Centre County (Centre Relay Station), Pennsylvania;

• About 11 miles of 24-inch diameter pipeline loop in Wetzel County, West Virginia and Greene County, Pennsylvania (TL-492 EXT3 Pipeline);

• About 12 miles of 24-inch-diameter pipeline loop in Potter County, Pennsylvania (TL-453 EXT1 Pipeline);

• About 10 miles of 20-inch-diameter pipeline loop in Potter County, Pennsylvania (TL-536 Pipeline);

• Replacement of about 0.6 mile and pressure testing and possible replacement of about 0.4 mile of 30-inch-diameter pipeline in Franklin County, Pennsylvania (PL-1 Pipeline Pressure Restoration Sites);

• Minor modifications to the existing Loudoun Measuring and Regulating (M&R) Station in Loudoun County, Virginia;

• About 2,800 horsepower (hp) of additional compression at the existing Mockingbird Hill Compressor Station in Wetzel County, West Virginia;

• Minor modifications to the existing Leesburg Compressor Station in Loudoun County, Virginia;

• Minor modifications to the existing Chambersburg Compressor Station in Franklin County, Pennsylvania;

• Additional facilities and pipeline replacement at the existing Leidy M&R Station located at the Leidy Hub complex in Clinton County, Pennsylvania;

• About 3,550 hp of additional compression at Dominion's previously approved Wolf Run Compressor Station in Lewis County, West Virginia; and

• Minor modifications to Dominion's previously approved Quinlan Compressor Station in Cattaraugus County, New York.

Dominion's proposed LNG terminal expansion would increase the send-out capability by 800,000 dekatherms per day (Dth/d) and increase the storage capacity by 6.8 MMDth/d. Dominion's proposed pipeline and related facilities in Maryland and Virginia would allow it to deliver an additional 800,000 Dth/d from its LNG terminal to its connections with other interstate pipelines. Dominion's proposed pipelines and related facilities in Pennsylvania, West Virginia, and New York would allow it to transport an additional 700,000 Dth/d to various delivery points on its system, and offer a new underground storage service of 6.0 MMDth, with an additional demand of 100,000 Dth/d.

Dominion Cove Point LNG, LP has applied, concurrently, to the Corps for a Department of the Army Individual Permit pursuant to Section 404 of the Clean Water Act (33 U.S.C. 1344) and section 10 of the Rivers and Harbors Act of 1899 (33 U.S.C. 403) for proposed structures in and under navigable waters and the discharge of dredged, excavated, and/or fill material into waters of the United States, including wetlands to construct the preferred alternative identified in the final EIS. The decision whether to issue the permits will be based on an evaluation of the probable impacts, including cumulative impacts, of the proposed projects on the public interest. The decision will reflect the national concern for the protection and utilization of important resources. The benefits, which would be reasonably expected to accrue from the proposed projects, must be balanced against its reasonably foreseeable detriments. All factors, which may be relevant to the proposed work, will be considered, including the cumulative effects thereof; among those are conservation, economics, aesthetics, general environmental concerns, wetlands, cultural values, fish and wildlife values, flood hazards, floodplain values, land use, navigation, shore erosion and accretion, recreation, water supply, and conservation, water quality, energy needs, safety, food and fiber production, consideration of property ownership, and in general, the needs and welfare of the people.

The Corps solicited comments from the public; Federal, State, and local agencies and officials; Indian tribes; and other interested parties in order to consider and evaluate the impacts of the proposed project. Comments received will be considered by the Corps to determine whether to issue, modify, condition or deny a permit for the proposal. To make this decision, the Corps uses comments received to access impacts on endangered species, historic properties, water quality, general environmental effects, and the other public interest factors listed above.

The evaluation of the impact of the work described above on the public interest will also include application, by the Corps, of the guidelines [Section 404(b)(1)] promulgated by the Administrator, U.S. Environmental Protection Agency, under authority of Section 404 of the Clean Water Act.

For Corps permitting purposes, if applicable, the applicant is required to obtain a Water Quality Certification in accordance with Section 401 of the Clean Water Act from the Maryland Department of the Environment (MDE), the Pennsylvania Department of Environmental Protection, and the State of West Virginia Division of Environmental Protection. The Section 401 certifying agencies have a statutory limit of one year in which to make their decisions. Additionally, for Corps permitting purposes, the applicant is required to obtain Coastal Zone Management Consistency concurrence from the MDE, as well. It should be noted that the MDE has a statutory limit of 6 months in which to make its consistency determination.

The U.S. Coast Guard (Coast Guard) within the U.S. Department of Homeland Security is also participating as a cooperating agency in the preparation of the EIS because it exercises regulatory authority over LNG facilities that affect the safety and security of port areas and navigable waterways under Executive Order 10173; the Magnuson Act (50 U.S.C. 191); the Ports and Waterways Safety Act of 1972, as amended (33 U.S.C. 1221, et seq.); and the Maritime Transportation Security Act of 2002 (46 U.S.C. 701). The Coast Guard also has authority for LNG facility plan review, approval and compliance verification as provided in title 33 CFR part 105, and siting as it pertains to the management of vessel traffic in and around the LNG facility. As required by its regulations, the Coast Guard is responsible for issuing a Letter of Recommendation (LOR) as to the suitability of the waterway for LNG marine traffic.

The final EIS has been placed in the public files of the FERC and is available for distribution and public inspection at: Federal Energy Regulatory Commission, Public Reference Room, 888 First Street, NE., Room 2A, Washington, DC 20426, (202) 208-1371.

Copies of the final EIS have been mailed to Federal, State, and local agencies; public interest groups; individuals and affected landowners who requested a copy of the final EIS or provided comments during scoping; libraries; newspapers; and parties to this proceeding. A limited number of documents and CD-ROMs are available from the Public Reference Room identified above. In addition, hard-copies of the document are also available for reading at public libraries along the proposed project route.

In accordance with the Council on Environmental Quality's (CEQ) regulations implementing NEPA, no agency decision on a proposed action may be made until 30 days after the U.S. Environmental Protection Agency publishes a notice of availability of a final EIS. However, the CEQ regulations provide an exception to this rule when an agency decision is subject to a formal internal appeal process which allows other agency review or the public to make their views known. In such cases, the agency decision may be made at the same time the notice of the final EIS is published, allowing both periods to run concurrently. The Commission decision for this proposed action is subject to a 30-day rehearing period.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E6-6844 Filed 5-4-06; 8:45 am]

BILLING CODE 6717-01-P